DEPARTMENT OF STATE

[Public Notice: 10802]

Certification Pursuant to Section 7041(F)(3) of the Department of State, Foreign Operations, and Related Programs Appropriations Act, 2019

By virtue of the authority vested in me pursuant to section 7041(f)(3) of the Department of State, Foreign Operations, and Related Programs Appropriations Act, 2019 (Div. F, Pub. L. 116-6) and Department of State Delegation of Authority 245-2, I hereby certify that Libya's Government of National Accord is cooperating with United States Government efforts to investigate and bring to justice those responsible for the attack on United States personnel and facilities in Benghazi, Libya in September 2012.

This certification shall be published in the Federal Register and, along with the accompanying Memorandum of Justification, shall be reported to Congress.

John J. Sullivan,
Deputy Secretary of State.

[FR Doc. 2019-13158 Filed 6-24-19; 8:45 am]

BILLING CODE 4710-10-P